DEPARTMENT OF HOMELAND SECURITY

Coast Guard

[USCG-2003-15648]

Towing Safety Advisory Committee; Charter Renewal

AGENCY: Coast Guard, DHS.

ACTION: Notice of charter renewal.

SUMMARY: The Secretary of Homeland Security has renewed the charter for the Towing Safety Advisory Committee (TSAC) for 2 years from July 1, 2003 until June 30, 2005. TSAC is a Federal advisory committee under 5 U.S.C. App.2 (Pub. L. 92-463, 86 Stat. 770, as amended). It advises the Secretary through the Coast Guard on matters relating to shallow-draft inland and coastal waterway navigation and towing safety.

ADDRESSES: You may request a copy of the charter by writing to Commandant (G-MSO-1), U.S. Coast Guard, 2100 Second Street SW., Washington, DC 20593-0001; by calling 202-267-0214; or by faxing 202-267-4570. This notice and the charter are available on the Internet at http://dms.dot.gov.

FOR FURTHER INFORMATION CONTACT: Mr. Gerald Miante, Assistant Executive Director of TSAC, telephone 202-267-0221, fax 202-267-4570, or e-mail gmiante@comdt.uscg.mil.

Dated: July 11, 2003.
Joseph J. Angelo,
Director of Standards, Marine Safety, Security & Environmental Protection.

[FR Doc. 03-17987 Filed 7-15-03; 8:45 am]

BILLING CODE 4910-15-P